INTERNATIONAL TRADE COMMISSION

Notice of Appointment of Individuals to Serve as Members of Performance Review Board

AGENCY: United States International Trade Commission.

ACTION: Appointment of individuals to serve as members of performance review board.

DATES: Effective: November 9, 2010.

FOR FURTHER INFORMATION CONTACT: Cynthia Roscoe, Director of Human Resources, U.S. International Trade Commission (202) 205-2651.

SUPPLEMENTARY INFORMATION: The Chairman of the U.S. International Trade Commission has appointed the following individuals to serve on the Commission's Performance Review Board (PRB):

Chair of the PRB: Vice Chairman Irving A. Williamson

Vice-Chair of the PRB: Commissioner Daniel R. Pearson

Member: David Beck

Member: Catherine DeFilippo

Member: Robert B. Koopman

Member: Karen Laney

Member: Lynn I. Levine

Member: James M. Lyons

Member: Stephen A. McLaughlin

Member: Lyn M. Schlitt

Member: Andrew Martin

This notice is published in the Federal Register pursuant to the requirement of 5 U.S.C. 4314(c)(4). Hearing-impaired individuals are advised that information on this matter can be obtained by contacting our TDD terminal on (202) 205-1810.

By order of the Chairman.
Issued: November 10, 2010.
Marilyn R. Abbott,
Secretary to the Commission.

[FR Doc. 2010-28887 Filed 11-16-10; 8:45 am]

BILLING CODE 7020-02-P